DEPARTMENT OF THE INTERIOR

Fish and Wildlife Service

Notice of Availability of the Draft Environmental Assessment and Land Protection Plan for the Proposed Establishment of Mountain Longleaf National Wildlife Refuge, Calhoun County, Alabama

AGENCY: Fish and Wildlife Service, Department of the Interior.

ACTION: Notice of availability of a draft environmental assessment and land protection plan for the proposed establishment of Mountain Longleaf National Wildlife Refuge in Calhoun County, Alabama.

SUMMARY: This notice advises the public that the U.S. Fish and Wildlife Service, Southeast Region, proposes to establish a new national wildlife refuge at Fort McClellan, a U.S. Army military base that was recently closed under the Base Realignment and Closure Act. The purpose of the proposed refuge is to protect, enhance, and manage a unique mountain longleaf pine ecosystem for the benefit of neotropical migratory birds and a diversity of native wildlife and plants, with special emphasis on the red-cockaded woodpecker and other endangered and threatened species. A Draft Environmental Assessment and Land Protection Plan for the establishment of the proposed refuge has been prepared by Service biologists in coordination with the U.S. Army, the Alabama Game and Fish Division, and The nature Conservancy. The assessment considers the biological, environmental, and socioeconomic effects of establishing the refuge and evaluates three alternative actions and their potential impacts on the environment. Written comments or recommendations concerning the proposal are welcomed and should be sent to address given below.

DATES: Land acquisition planning for the project is currently underway. The draft environmental assessment and land protection plan will be available to the public for review and comment on August 14, 2000. Written comments must be received no later than September 15, 2000, in order to be considered for the preparation of the final environmental assessment.

ADDRESSES: If you wish to comment, you may submit your comments by any one of several methods. You may mail your comments to Mr. Charles R. Danner, Planning and Support Team, U.S. Fish and Wildlife Service, 1875 Century Boulevard, Suite 420, Atlanta, Georgia 30345. You may hand-deliver your comments to Mr. Danner at the same address. Or you may submit your comments by telephone at 1-800-419-9582. Our practice is to make comments, including the names and addresses of respondents, available for public review during regular business hours. Individual respondents may request that we withhold their home address from the record, which we will honor to the extent allowable by law. There may also be circumstances in which we would withhold from the record a respondent's identity, as allowable by law. If you wish us to withhold your name and/or address, you must state this prominently at the beginning of your comment. However, we will not consider anonymous comments. We will make all submissions from organizations and businesses, and from individuals identifying themselves as representatives or officials of organizations and businesses, available for public inspection in their entirety.

SUPPLEMENTARY INFORMATION: The proposal would establish a new national wildlife refuge on up to 15,000 acres of land in Calhoun County, Alabama, through an interagency transfer from the United States Army. The Service is proposing to establish the refuge by accepting the Army's offer to transfer the project lands in fee title.

The objectives of the proposed refuge are to (1) preserve and enhance the natural mountain longleaf pine ecosystem; (2) help perpetuate the neotropical migratory bird resource; (3) preserve a natural diversity and abundance of native fauna and flora, with special emphasis on the red-cockaded woodpecker and other endangered and threatened species; and (4) provide compatible, wildlife-dependent recreational opportunities such as hunting, fishing, wildlife observation and photography, and environmental education and interpretation.

Dated: July 24, 2000.
Sam D. Hamilton,
Regional Director.

[FR Doc. 00-19214 Filed 7-28-00; 8:45 am]

BILLING CODE 4310-55-M